DEPARTMENT OF ENERGY

Federal Energy Regulatory Commission

[Project No. 14726-001]

Pyramid Lake Paiute Tribe; Notice of Intent To File License Application, Filing of Pre-Application Document, Approving Use of the Traditional Licensing Process

a. Type of Filing: Notice of Intent to a File License Application and Request To Use the Traditional Licensing Process.

b. Project No.: 14726-001.

c. Date Filed: August 29, 2016.

d. Submitted By: Pyramid Lake Paiute Tribe.

e. Name of Project: Prosser Creek Hydroelectric Project.

f. Location: The project would be constructed at the existing Prosser Creek Dam owned and operated by the U.S. Bureau of Reclamation in Nevada County, California. The project would occupy 4.03 acres of federal land administered by U.S. Forest Service, Tahoe National Forest.

g. Filed Pursuant to: 18 CFR 5.3 of the Commission's regulations.

h. Potential Applicant Contact: Donna Noel, Director of Natural Resources, Pyramid Lake Paiute Tribe, P.O. Box 256, Nixon, Nevada 89424; (775) 574-1000; email—dnoel@plpt.nsn.us.

i. FERC Contact: Quinn Emmering at (202) 502-6382; or email at quinn.emmering@ferc.gov.

j. The Pyramid Lake Paiute Tribe filed its request to use the Traditional Licensing Process on August 29, 2016. The Pyramid Lake Paiute Tribe provided public notice of its request on August 26, 2016. In a letter dated October 20, 2016, the Director of the Division of Hydropower Licensing approved the Pyramid Lake Paiute Tribe's request to use the Traditional Licensing Process.

k. With this notice, we are initiating informal consultation with the U.S. Fish and Wildlife Service and NOAA Fisheries under section 7 of the Endangered Species Act and the joint agency regulations thereunder at 50 CFR, Part 402; and NOAA Fisheries under section 305(b) of the Magnuson-Stevens Fishery Conservation and Management Act and implementing regulations at 50 CFR 600.920. We are also initiating consultation with the California State Historic Preservation Officer, as required by section 106, National Historic Preservation Act, and the implementing regulations of the Advisory Council on Historic Preservation at 36 CFR 800.2.

l. With this notice, we are designating the Pyramid Lake Paiute Tribe as the Commission's non-federal representative for carrying out informal consultation pursuant to section 7 of the Endangered Species Act and section 305(b) of the Magnuson-Stevens Fishery Conservation and Management Act; and consultation pursuant to section 106 of the National Historic Preservation Act.

m. The Pyramid Lake Paiute Tribe filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCOnlineSupport@ferc.gov, (866) 208-3676 (toll free), or (202) 502-8659 (TTY). A copy is also available for inspection and reproduction at the address in paragraph h.

o. Register online at http://www.ferc.gov/docs-filing/esubscription.asp to be notified via email of new filing and issuances related to this or other pending projects. For assistance, contact FERC Online Support.

Dated: October 20, 2016.
Kimberly D. Bose,
Secretary.

[FR Doc. 2016-25838 Filed 10-25-16; 8:45 am]

BILLING CODE 6717-01-P